NATIONAL TRANSPORTATION SAFETY BOARD

Sunshine Act Meeting

Time and Date: 9:30 a.m., Thursday, November 13, 2008 and Friday, November 14, 2008.

Place: NTSB Conference Center, 429 L'Enfant Plaza, SW., Washington, DC 20594.

Status: The one item is open to the public.

Matters to be Considered: 7975B Highway Accident Report—Collapse of I-35W Highway Bridge, Minneapolis, Minnesota, August 1, 2007 (HWY-07-MH-024).

News Media Contact: Telephone: (202) 314-6100.

Individuals requesting specific accommodations should contact Rochelle Hall at (202) 314-6305 by Friday, November 7, 2008.

The public may view the meeting via a live or archived Webcast by accessing a link under “News & Events” on the NTSB home page at http://www.ntsb.gov.

FOR FURTHER INFORMATION CONTACT: Vicky D'Onofrio, (202) 314-6410.

Dated: November 3, 2008.
Vicky D'Onofrio,
Federal Register Liaison Officer.

[FR Doc. E8-26556 Filed 11-4-08; 11:15 am]

BILLING CODE 7533-01-P